SECURITIES AND EXCHANGE COMMISSION

[Release No. 34-102503; File No. SR-FICC-2025-002]

Self-Regulatory Organizations; Fixed Income Clearing Corporation; Notice of Filing and Immediate Effectiveness of Proposed Rule Change To Revise the Provisions Concerning Funds-Only Settlement Amount Payments of the GSD Rules

February 27, 2025.

Pursuant to Section 19(b)(1) of the Securities Exchange Act of 1934 (“Act”) ¹ and Rule 19b-4 thereunder,² notice is hereby given that on February 20, 2025, Fixed Income Clearing Corporation (“FICC”) filed with the Securities and Exchange Commission (“Commission”) the proposed rule change as described in Items I below, which Item has been substantially prepared by the clearing agency. FICC filed the proposed rule change pursuant to Section 19(b)(3)(A) of the Act ³ and Rule 19b-4(f)(1) thereunder.⁴ The Commission is publishing this notice to solicit comments on the proposed rule change from interested persons.

¹ 15 U.S.C. 78s(b)(1).

² 17 CFR 240.19b-4.

³ 15 U.S.C. 78s(b)(3)(A).

⁴ 17 CFR 240.19b-4(f)(1).

I. Clearing Agency's Statement of the Terms of Substance of the Proposed Rule Change

The proposed rule change of FICC consists of modifications to FICC's Government Securities Division (“GSD”) Rulebook (the “GSD Rules”) ⁵ to revise the provisions concerning Funds-Only Settlement Amount (“FOS”) payments, to clarify (a) the designation of FOS payments as settlement and therefore not a collateral payment pursuant to the GSD Rule 4, (b) the point of finality for such payments, and (c) the discharge of obligations upon the payment or collection of a FOS payment. FICC is also proposing to remove FICC's right to offset a FOS payment due to a Netting Member against any increased amount to Required Fund Deposit requested by FICC from such Netting Member.

⁵ Capitalized terms not defined herein are defined in the GSD Rules, available at www.dtcc.com/legal/rules-and-procedures.

The proposed rule change, including the Clearing Agency's statement of the purpose of, and statutory basis for, the proposed rule change, is available on the Clearing Agency's website at https://www.dtcc.com/legal/sec-rule-filings and on the Commission's website at https://www.sec.gov/rules-regulations/self-regulatory-organization-rulemaking/FICC?file_number=SR-FICC-2025-002.

II. Solicitation of Comments

Interested persons are invited to submit written data, views, and arguments concerning the foregoing, including whether the proposed rule change is consistent with the Act.⁶ Comments may be submitted electronically by using the Commission's internet comment form (https://www.sec.gov/rules-regulations/self-regulatory-organization-rulemaking/national-securities-exchanges?file_number=SR-FICC-2025-002) or by sending an email to rule-comments@sec.gov. Please include file number SR-FICC-2025-002 on the subject line. Alternatively, paper comments may be sent to Secretary, Securities and Exchange Commission, 100 F Street NE, Washington, DC 20549-1090. All submissions should refer to file number SR-FICC-2025-002. To help the Commission process and review your comments more efficiently, please use only one method. The Commission will post all comments on the Commission's internet website (https://www.sec.gov/rules-regulations/self-regulatory-organization-rulemaking/national-securities-exchanges?file_number=SR-FICC-2025-002). Do not include personal identifiable information in submissions; you should submit only information that you wish to make available publicly. We may redact in part or withhold entirely from publication submitted material that is obscene or subject to copyright protection. All submissions should refer to File Number SR-FICC-2025-002 and should be submitted on or before March 26, 2025.

⁶ Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street NE, Washington, DC 20549, on official business days between the hours of 10 a.m. and 3 p.m. Copies of the filing also will be available for inspection and copying at the principal office of SRO.

For the Commission, by the Division of Trading and Markets, pursuant to delegated authority.⁷
⁷ 17 CFR 200.30-3(a)(12).
Sherry R. Haywood,
Assistant Secretary.

[FR Doc. 2025-03513 Filed 3-4-25; 8:45 am]

BILLING CODE 8011-01-P